CORPORATION FOR NATIONAL AND COMMUNITY SERVICE

Notice Inviting Preliminary Informal Public Input

AGENCY: Corporation for National and Community Service

ACTION: Notice inviting preliminary public input.

SUMMARY: On April 21, 2009, President Obama signed the bi-partisan Edward M. Kennedy Serve America Act (the Act). The Act takes effect on October 1, 2009 and calls upon the Corporation for National and Community Service (“the Corporation”) and its partners to expand opportunities for all Americans to serve, to focus on important national outcomes, to be a catalyst for social innovation, and to support the nonprofit sector. In achieving these goals, the Corporation must look for new ways to build on the assets of federal and private programs while reducing unnecessary burdens.

The Serve America Act authorizes the Corporation not only to expand existing programs but to add several new programs and initiatives, ultimately expanding the core mission of the agency. Implementation of this historic legislation and strategic planning for the future will require the best ideas and thoughts from around the country.

The Corporation is inviting preliminary informal input from the public concerning the implementation of the Serve America Act. We will accept input in writing, as described below, or in person at one of six listening sessions we will hold across the country in May. We will also be holding several conference calls, to be scheduled at a later date. Please see Supplementary Information for some topics to consider when formulating input. The Corporation will not respond individually to those providing input, but will consider the input in drafting any Notice of Proposed Rulemaking, in developing the agency's strategic plan, and in otherwise developing guidelines around new and existing programs. The public will have a separate opportunity to provide formal comment on any proposed rule the Corporation publishes for comment in 2009 or thereafter.

Please note that this Notice does not request comments on individual application forms used under the various programs of the Corporation. The Corporation periodically publishes separate requests for comments concerning such application forms.

DATES: Please submit written input to the Corporation as soon as possible. We will consider input as we begin drafting proposed regulations and as we develop our new five-year strategic plan. In addition, the Corporation will hold six public input meetings across the country, and conference calls to seek in-person input under this Notice. See Supplementary Information for public input meeting information. Conference calls will be scheduled at a later date; additional information can be found at http://www.nationalservice.gov/serveact.

ADDRESSES: You may submit written input to the Corporation by any of the following methods:

(1) Electronically via e-mail to ServeAmericaAct@cns.gov.

(2) By fax to (202) 606-3467, with attention to Amy Borgstrom, Docket Manager.

(3) By mail sent to: Amy Borgstrom, Docket Manager, Corporation for National and Community Service, 1201 New York Ave., NW., Washington, DC 20525.

(4) On the Corporation's Serve America implementation Web site, visit http://www.nationalservice.gov/serveact.

Members of the public may review copies of all communications received at the Corporation's Washington, DC headquarters. Input submitted on the Serve America implementation Web site is available for review online.

FOR FURTHER INFORMATION CONTACT: Amy Borgstrom, Docket Manager, Corporation for National and Community Service, (202) 606-6930, TDD (202) 606-3472. Persons with visual impairments may request this rule in an alternate format.

SUPPLEMENTARY INFORMATION: For more information on the Corporation and its programs, please visit our Web site at http://www.nationalservice.gov.

The Corporation is inviting preliminary informal input from the public concerning the implementation of the Serve America Act. We will accept input in writing, as described below, or in person at one of six listening sessions we will hold across the country in May. We will also be holding several conference calls, to be scheduled at a later date. The Corporation will not respond individually to those providing input, but will consider the input in drafting any Notice of Proposed Rulemaking, in developing the agency's strategic plan, and in otherwise developing guidelines around new and existing programs. The public will have a separate opportunity to provide formal comment on any proposed rule the Corporation publishes for comment in 2009 or thereafter. When providing in-person or written input on the issues outlined above, please consider the following questions:

Expanding Opportunities To Serve

How can CNCS and its partners attract people of all ages to serve? How should the Corporation and its partners identify and nurture new programs that can host additional AmeriCorps slots? What are some promising approaches to promoting more service programs focused on education, healthy futures, clean energy, veterans and economic opportunity? What do State Commissions, national intermediaries, and other partners view as the best strategies for reaching and developing new program sponsors? What kind(s) of assistance do grantees need to continue delivering high quality programs and to expand? Should the Service Corps outlined in the Act (education, healthy futures, clean energy, veterans and economic opportunity) be focus areas within AmeriCorps or programs with their own identity? How should CNCS and its partners manage the growth of service brands?

Combining Assets for Greater Impact

How can CNCS and its programs capitalize on the diversity of our programs while also coordinating efforts creatively and effectively for maximum impact? How can the Corporation stimulate new partnerships, both within the government sector and with businesses and foundations, to combine our assets for greater impact?

Demonstrating Impact

In what ways can service produce the greatest impact? How do we better demonstrate impact, and as we move to more standardized performance measures, how do we preserve the diversity of programs and localized nature of solutions? What is the best way to identify program models that work? How should the Corporation transition from the current practice of self-nominated performance measures in AmeriCorps to standardized measures? For example, the Act sets forth standard measures for each of the five Service Corps. In education, the legislation includes performance measures such as: Student engagement, student attendance, student behavior, and student academic achievement. What support do grantees need to implement these new measures? Should the Corporation establish standard national performance measures in VISTA, Senior Corps and Learn and Serve? If so, how? Should there be a few measures that apply to all Corporation programs?

Spurring Innovation and Supporting the Nonprofit Sector

The Act calls on the Corporation to become a hub of innovation and support for the nonprofit sector as a whole. How should the Corporation implement that goal? What does the sector need that CNCS can provide with expanded service opportunities? How should the Social Innovation Fund operate in order to provide seed money and scale-up capital for innovative and evidence-based programs? How should the Volunteer Generation Fund operate to ensure we are maximizing its potential to support the recruitment and management of volunteers? How should the Nonprofit Capacity Building Program be implemented to provide training and technical assistance to small and mid-sized non-profits? How should the Serve America Fellows and Encore Fellows programs be implemented? How much capacity is required of commissions to launch the Serve America Fellows program? How should we develop the list of qualified eligible organizations? How can we effectively spur innovation in service-learning? How should the new Innovative Service-Learning funds be utilized in Learn and Serve America? How should the Silver Scholarships program be implemented? How should the Summer of Service program be implemented?

Achieving Growth Through Simpler Grantmaking

How can we make it easier and more attractive for non-profits to work with CNCS? What are ways to reduce burden, avoid duplication and increase efficiency? How can the Corporation consolidate the application process most effectively? How can the Corporation reduce reporting requirements while still ensuring appropriate use of federal funds? The Corporation intends to implement fixed amount grants for programs in which the cost of running the program is substantially more than the amount received in the grant. To accomplish this, the Corporation must know the costs of each type of program in order to set the “fixed” grant amount. From the grantee perspective, what are the known costs for programs with part-time members? What are the operational benefits/challenges from the grantee perspective of fixed-amount grants? How do we structure fixed-price grants so that they realize the promise of a reduction in burden, while at the same time providing better information about impact?

Conference Calls and Public Input Meetings

The Corporation is planning six public input meetings across the country and will also be scheduling conference calls. The public input meetings have been scheduled as follows:

May 13, 1-4 p.m.—Springfield, MO

May 14, 1-4 p.m.—Columbia, SC

May 20, 12:30-2:30 p.m.—Washington, DC (During public comment segment at conclusion of Public Board Meeting).

May 22, 9 a.m.-12 p.m.—Boston, MA

May 27, 9 a.m.-12 p.m.—Salt Lake City, UT

May 28, 1-4 p.m.—New Orleans, LA

Please check our Web site at http://www.nationalservice.gov/serveact for further information on the times, locations, and other relevant information regarding these meetings and conference calls.

Dated: May 5, 2009.
Frank R. Trinity,
General Counsel.

[FR Doc. E9-10831 Filed 5-7-09; 8:45 am]

BILLING CODE 6050-$$-P